DEPARTMENT OF HOMELAND SECURITY

U.S. Immigration and Customs Enforcement

Departure Notification Record

AGENCY: U.S. Immigration and Customs Enforcement.

ACTION: 60-Day notice.

SUMMARY: The information collection Departure Notification Record (DNR), OMB Control Number 1653-0057, was reinstated on December 22, 2025. In accordance with the Paperwork Reduction Act (PRA) of 1995, the Department of Homeland Security (DHS), U.S. Immigration and Customs Enforcement (ICE) will submit the following Information Collection Request (ICR) to the Office of Management and Budget (OMB) to extend this currently approved collection. DHS is soliciting comments for this collection.

DATES: Comments are encouraged and must be submitted March 9, 2026 to be assured of consideration.

ADDRESSES: All submissions received must include the OMB Control Number 1653-0057 in the body of the correspondence, the agency name and Docket ID ICEB-XXXX-XXXX. All comments received will be posted without change to http://www.regulations.gov, including any personal information provided. Submit comments via the Federal eRulemaking Portal website at http://www.regulations.gov under e-Docket ID number ICEB XXXX-XXXX.

FOR FURTHER INFORMATION CONTACT: If you have questions related to this collection please contact: Omar Charris, 202-200-1988, Omar.A.Charris@ice.dhs.gov, U.S. Immigration and Customs Enforcement. (This is not a toll-free number. Comments are not accepted via telephone message.)

SUPPLEMENTARY INFORMATION:

Comment

You may access the information collection instrument with instructions or additional information by visiting the Federal eRulemaking Portal site at: https://www.regulations.gov and entering ICEB-XXXX-XXXX in the search box. All submissions will be posted, without change, to the Federal eRulemaking Portal at https://www.regulations.gov, and will include any personal information you provide. Therefore, submitting this information makes it public. You may wish to consider limiting the amount of personal information that you provide in any voluntary submission you make. DHS may withhold information provided in comments from public viewing that it determines may impact the privacy of an individual or is offensive. For additional information, please read the Privacy Act notice that is available via the link in the footer of https://www.regulations.gov.

Written comments and suggestions from the public and affected agencies concerning the proposed collection of information should address one or more of the following four points:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Overview of This Information Collection

1. Type of Information Collection: Extension without Change of a Previously Approved Collection.

2. Title of Form/Collection: Departure Notification Record.

3. Agency form number, if any, and the applicable component of the Department of Homeland Security sponsoring the collection: N/A, U.S. Immigration and Customs Enforcement.

4. Affected public who will be asked or required to respond, as well as a brief abstract: Individuals. DHS, including CBP and ICE, will use this information to identify those aliens geographically located in the United States who want to voluntarily depart the United States. Those aliens will be able to report biographic data and biometric data, as well as information about their intended departure. With this information, DHS can assist aliens to depart from the United States to their destination country. DHS will use a mobile application, currently CBP Home, to collect this information.

5. An estimate of the total number of respondents and the amount of time estimated for an average respondent to respond: 16,800,000 responses at 5 minutes per response.

6. An estimate of the total public burden (in hours) associated with the collection: 1,394,400 annual burden hours.

Sharon Hageman,
Deputy Assistant Director, Office of Regulatory Affairs and Policy, U.S. Immigration and Customs Enforcement.

[FR Doc. 2026-00118 Filed 1-7-26; 8:45 am]

BILLING CODE 9111-28-P